DEPARTMENT OF THE INTERIOR

Bureau of Land Management

[LLAKF03000.L12320000.FU0000.LVRDAK010000.21xL5413AR.HAG 15-0234]

Notice of Intent To Establish Recreation Fees on Public Lands in the Central Yukon Field Office, Alaska

AGENCY: Bureau of Land Management, Interior.

ACTION: Notice of intent.

SUMMARY: Pursuant to applicable provisions of the Federal Lands Recreation Enhancement Act (FLREA), the Bureau of Land Management (BLM), Central Yukon Field Office, intends to establish expanded (overnight/specialized use) amenity fees at the Five Mile, Arctic Circle, and Galbraith Lake campgrounds along the Dalton Highway, Alaska.

DATES: Comments on the proposed fees must be received or postmarked by April 8, 2022 and include a full name and address.

ADDRESSES: The business plan and information concerning the proposed fees may be reviewed at the Central Yukon Field Office, 222 University Ave., Fairbanks, AK 99709; the Alaska State Office, 222 West 7th Ave., #13, Anchorage, AK 99513; or online at www.blm.gov/programs/recreation/permits-and-fees/business-plans. Written comments may be mailed or delivered to the Central Yukon Field Office or emailed to: CentralYukon@blm.gov with “Attn: Field Manager, Notice of Intent to Establish Recreation Fees” referenced in the subject line.

FOR FURTHER INFORMATION CONTACT: Tim La Marr, Field Manager, Central Yukon Field Office, 222 University Avenue, Fairbanks, AK 99709, by phone at (907) 474-2356, or by email at CentralYukon@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The FLREA directs the Secretary of the Interior to publish a six-month advance notice in the Federal Register whenever new recreation fee areas are established.

The BLM is proposing to establish recreation fees for expanded amenities at the Five Mile (milepost 60), Artic Circle (milepost 115), and Galbraith Lake (milepost 275) campgrounds along the Dalton Highway. This highway provides the only road connection between Interior Alaska and the North Slope.

The BLM partially reconstructed Five Mile and Galbraith Lake campgrounds in 2013 and added additional amenities in 2017. The agency completed construction of Arctic Circle Campground in August 2021. The improvements provided at each of these campgrounds include designated campsites (with picnic tables, tent or trailer space, and fire rings), picnic areas, parking, roadways and trails, and two new concrete restroom buildings. The campgrounds currently maintain accessible toilet facilities, fire rings, and bear-proof refuse containers.

These facilities qualify as sites where visitors can be charged an “Expanded Amenity Recreation Fee” under section 3(g) of the FLREA, 16 U.S.C. 6801 et seq. Pursuant to FLREA and implementing regulations at 43 CFR 2933, fees may be charged for overnight camping where specific amenities and services are provided. The BLM will post specific visitor fees at each campground. Fees must be paid at the self-service pay station located at the camping areas. Visitors holding the America the Beautiful—The National Parks and Federal Recreational Lands—Senior Pass and/or Access Pass will be entitled to a 50 percent fee reduction on individual overnight fees.

Effective September 6, 2022, the Central Yukon Field Office will initiate new fee collection at the Arctic Circle, Five Mile, and Galbraith Lake campgrounds unless the BLM publishes a Federal Register notice to the contrary. The BLM will begin collecting fees of $10 per campsite per night at Arctic Circle Campground in summer 2022. At Five Mile and Galbraith Lake Campgrounds, the BLM will begin collecting fees of $10 per campsite per night as early as summer 2023, as well as a recreational vehicle sanitary dump station fee of $5 per use at Five Mile Campground. These fees are consistent with other established fee sites in the region, including other BLM-administered sites. In accordance with BLM recreation fee program policy, the Central Yukon Field Office has developed a recreational fee business plan that is available at the addresses in the ADDRESSES section. The business plan explains the fee collection process and outlines how fees will be used at the fee sites. Any future adjustments in the fee amounts would be handled in accordance with the business plan, with public notice before any fee increase.

The BLM notified and involved the public at each stage of the planning process for the new fees. The BLM posted written notices of proposed fees at each fee site in June 2019. It announced a 30-day public comment period on the draft business plan on February 5, 2021, through a BLM news release and the BLM website. The draft business plan was publicly available for review and comment on the BLM Alaska business plan website from February 5, 2021, to March 22, 2021.

Before including your address, phone number, email address, or other personal identifying information in your comment, you should be aware that your entire comment—including your personal identifying information—may be made publicly available at any time. While you can ask us in your comment to withhold your personal identifying information from public review, we cannot guarantee that we will be able to do so.

Authority: 16 U.S.C. 6803(b) and 43 CFR 2933.

Kevin Pendergast,
Deputy State Director, Resources.

[FR Doc. 2022-05006 Filed 3-8-22; 8:45 am]

BILLING CODE 4310-JA-P